DEPARTMENT OF JUSTICE

Drug Enforcement Administration

John M. Chois; Decision and Order

On September 27, 2010, the Deputy Assistant Administrator, Office of Diversion Control, Drug Enforcement Administration, issued an Order to Show Cause to John M. Chois, D.O. (Registrant), of Orlando, Florida. The Show Cause Order proposed the revocation of Registrant's DEA Certificate of Registration, BC6071904, as a practitioner, and the denial of any pending applications to renew or modify his registration, on the ground that he “do[es] not have authority to handle controlled substances in the [S]tate of Florida.” Show Cause Order, at 1 (citing 21 U.S.C. 824(a)(3)).

More specifically, the Show Cause Order alleged that the Florida Department of Health had ordered the emergency suspension of Registrant's license to practice medicine. Id. The Order thus alleged that Registrant is “currently without authority to handle controlled substance in the State of Florida, the [S]tate in which [Registrant is] registered with DEA,” and that as a consequence, his registration was subject to revocation. Id. at 1-2. The Order also notified Registrant of his right to request a hearing on the allegations or to submit a written statement in lieu of a hearing, the procedure for doing either, and the consequence for failing to do either. Id. at 2 (citing 21 CFR 1301.43).

On October 4, 2010, the Show Cause Order was served on Registrant by Certified Mail, Return Receipt Requested, which was addressed to him at his registered location. Since the date of service of the Order, thirty (30) days have now passed and neither Registrant, nor anyone purporting to represent him, has requested a hearing or submitted a written statement in lieu of a hearing. I therefore find that Registrant has waived his right to a hearing or to submit a written statement in lieu of hearing, and issue this Decision and Final Order based on relevant evidence contained in the record submitted by the Government. 21 CFR 1301.43(d) & (e). I make the following findings of fact.

Findings

Registrant is the holder of DEA Certificate Registration, BC6071904, which authorizes him to dispense controlled substances in Schedules II through V as a practitioner, at the registered address of Advanced Aesthetics, 7425 Conroy Road, Orlando, Florida 32835. His registration does not expire until August 31, 2013.

Registrant is an osteopathic physician licensed by the State of Florida, who is board-certified in plastic surgery and hand surgery. On August 6, 2010, the State Surgeon General, Florida Department of Health (DOH), ordered the emergency suspension of Registrant's medical license. In re John Michael Chois, D.O., Order of Emergency Suspension of License, at 1 (Fla. DOH Aug. 6, 2010) (No. 2010-03967). The State Surgeon General suspended Registrant's license because he failed to comply with the DOH's order that he provide a hair sample for drug testing and that he enter an approved inpatient evaluation program for healthcare professionals with substance abuse problems. Id. at 9.

Registrant's license to practice medicine remains suspended as of the date of this Order. Thus, Registrant is currently without authority to handle controlled substances under the laws of the State of Florida, the State in which he is registered with DEA.

Discussion

Under the Controlled Substances Act (CSA), a practitioner must be currently authorized to handle controlled substances in “the jurisdiction in which he practices” in order to maintain a DEA registration. See 21 U.S.C. 802(21) (“[t]he term `practitioner' means a physician * * * licensed, registered, or otherwise permitted, by * * * the jurisdiction in which he practices * * * to distribute, dispense, [or] administer * * * a controlled substance in the course of professional practice”). See also id. § 823(f) (“The Attorney General shall register practitioners * * * if the applicant is authorized to dispense * * * controlled substances under the laws of the State in which he practices.”). As these provisions make plain, possessing authority under state law to handle controlled substances is an essential condition for obtaining and maintaining a DEA registration.

Accordingly, DEA has held that revocation of a registration is warranted whenever a practitioner's state authority to dispense controlled substances has been suspended or revoked. David W. Wang, 72 FR 54297, 54298 (2007); Sheran Arden Yeates, 71 FR 39130, 39131 (2006); Dominick A. Ricci, 58 FR 51104, 51105 (1993); Bobby Watts, 53 FR 11919, 11920 (1988). See also 21 U.S.C. 824(a)(3) (authorizing revocation of a registration “upon a finding that the registrant * * * has had his State license or registration suspended [or] revoked * * * and is no longer authorized by State law to engage in the * * * distribution [or] dispensing of controlled substances”).

DEA has further held that revocation is warranted even where a practitioner's state authority has been summarily suspended and the State has yet to provide the practitioner with a hearing to challenge the State's action and at which he may ultimately prevail. See Robert Wayne Mosier, 75 FR 49950 (2010) (“revocation is warranted * * * even in those instances where a practitioner's state license has only been suspended, and there is the possibility of reinstatement”); accord Bourne Pharmacy, 72 FR 18273, 18274 (2007). See also Alton E. Ingram, Jr., 69 FR 22562 (2004); Anne Lazar Thorn, 62 FR 12847 (1997) (“the controlling question is not whether a practitioner's license to practice medicine in the state is suspended or revoked; rather, it is whether the Respondent is currently authorized to handle controlled substances”).

As found above, on August 6, 2010, the Florida Surgeon General immediately suspended Registrant's state medical license. Because Registrant is without authority to dispense controlled substances in the State where he practices medicine and holds his DEA registration, he is not entitled to maintain his registration. See 21 U.S.C. 802(21), 823(f), 824(a)(3). Accordingly, Registrant's registration will be revoked and any pending application will be denied.

Order

Pursuant to the authority vested in me by 21 U.S.C. 823(f) and 824(a), as well as 21 CFR 0.100(b) and 0.104, I order that DEA Certificate of Registration, BC6071904, issued to John M. Chois, D.O., be, and it hereby is, revoked. I further order that any pending application of John M. Chois, D.O., to renew or modify his registration, be, and it hereby is, denied. This Order is effective immediately.¹

¹ For the same reasons as cited in the State's Emergency Suspension Order, I find that the public interest requires that this Order be made effective immediately. See 21 CFR 1316.67.

Dated: January 18, 2011.
Michele M. Leonhart,
Administrator.

[FR Doc. 2011-1694 Filed 1-26-11; 8:45 am]

BILLING CODE 4410-09-P